FEDERAL TRADE COMMISSION

16 CFR Part 305

Rule Concerning Disclosures Regarding Energy Consumption and Water Use of Certain Home Appliances and Other Products Required Under the Energy Policy and Conservation Act (Appliance Labeling Rule)

AGENCY: Federal Trade Commission.

ACTION: Final rule.

SUMMARY: The Federal Trade Commission (“Commission”) amends its Appliance Labeling Rule (“Rule”) by publishing new ranges of comparability to be used on required labels for compact dishwashers. The Commission also announces that the current ranges of comparability for standard-sized dishwashers, central air conditioners, and heat pumps will remain in effect until further notice. Finally, the Commission amends the portions of Appendices H (Cooling Performance and Cost for Central Air Conditioners) and I (Heating Performance and Cost for Central Air Conditioners) to reflect the current (2001) Representative Average Unit Cost of Electricity that was published on March 8, 2001 (66 FR 13917), by the Department of Energy (“DOE”), and on May 21, 2001 (66 FR 27856) by the Commission.

EFFECTIVE DATE: The amendments to Appendix C1 to part 305 establishing new ranges of comparability for compact dishwashers will become effective March 22, 2002. The amendments to Appendices H and I to Part 305 will become effective December 27, 2001.

FOR FURTHER INFORMATION CONTACT: Hampton Newsome, Attorney, Division of Enforcement, Federal Trade Commission, Washington, D.C. 20580 (202-326-2889); hnewsome@ftc.gov.

SUPPLEMENTARY INFORMATION: The Rule was issued by the Commission in 1979, 44 FR 66466 (Nov. 19, 1979), in response to a directive in the Energy Policy and Conservation Act of 1975.¹ The Rule covers eight categories of major household appliances: refrigerators and refrigerator-freezers, freezers, dishwashers, clothes washers, water heaters (this category includes storage-type water heaters, gas-fired instantaneous water heaters, and heat pump water heaters), room air conditioners, furnaces (this category includes boilers), and central air conditioners (this category includes heat pumps). The Rule also covers pool heaters, 59 FR 49556 (Sept. 28, 1994), and contains requirements that pertain to fluorescent lamp ballasts, 54 FR 28031 (July 5, 1989), certain plumbing products, 58 FR 54955 (Oct. 25, 1993), and certain lighting products, 59 FR 25176 (May 13, 1994, eff. May 15, 1995).

¹ 42 U.S.C. 6294. The statute also requires the Department of Energy (DOE) to develop test procedures that measures how much energy the appliances use, and to determine the representative average cost a consumer pays for the different types of energy available.

The Rule requires manufacturers of all covered appliances and pool heaters to disclose specific energy consumption or efficiency information (derived from the DOE test procedures) at the point of sale in the form of an “EnergyGuide” label and in catalogs. It also requires manufacturers of furnaces, central air conditioners, and heat pumps either to provide fact sheets showing additional cost information, or to be listed in an industry directory showing the cost information for their products. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report annually (by specified dates for each product type) ² the estimated annual energy consumption or energy efficiency ratings for the appliances derived from tests performed pursuant to the DOE test procedures. Because manufacturers regularly add new models to their lines, improve existing models, and drop others, the data base from which the ranges of comparability are calculated is constantly changing. Under Section 305.10 of the Rule, to keep the required information on labels consistent with these changes, the Commission publishes new ranges (but not more often than annually) if an analysis of the new information indicates that the upper or lower limits of the ranges have changed by more than 15%. Otherwise, the Commission publishes a statement that the prior ranges remain in effect for the next year.

² Reports for dishwashers are due June 1; reports for central air conditioners and heat pumps are due July 1.

The annual submissions of data for dishwashers, central air conditioners, and heat pumps have been made and have been analyzed by the Commission. The ranges of comparability for central air conditioners and heat pumps have not changed by more than 15% from the current ranges for these products. Therefore, the current ranges for these products, which were published on September 16, 1996 (61 FR 48620), will remain in effect until further notice.

The data submissions for dishwashers show no significant change in the high or low ends of the range of comparability scale for standard models, but a significant change in the low end of the compact scale.³ Rather than require new ranges for the vast majority of dishwashers (the standard category) when only the high end of the compact range has changed significantly, the Commission has decided to publish new ranges of comparability only for compact dishwashers. These new ranges of comparability supersede the current ranges for compact-sized dishwashers, which were published on September 1, 2000.⁴ As of the effective date of these new ranges, manufacturers of compact-sized dishwashers must base the disclosures of estimated annual operating cost required at the bottom of EnergyGuides for compact-sized dishwashers on the 2001 Representative Average Unit Costs of Energy for electricity (8.29 cents per kiloWatt-hour) and natural gas (83.7 cents per therm) that were published by DOE on March 8, 2001 (66 FR 13917) and by the FTC on May 21, 2001 (66 FR 27856).

³ The Commission's classification of “Standard” and “Compact” dishwashers is based on internal load capacity. Appendix C of the Commission's Rule defines “Compact” as including countertop dishwasher models with a capacity of fewer than eight (8) place settings and “Standard” as including portable or built-in dishwasher models with a capacity of eight(8) or more place settings. The Rule requires that place settings be determined be in accordance with appendix C to 10 CFR Part 430, subpart B, of DOE's energy conservation standards program.

⁴ The current ranges for compact-sized dishwashers (Appendix C1) were published at 65 FR 53165, along with a republication of the current (1997) ranges for standard-sized dishwashers (Appendix C2), which were originally published on August 25, 1997, at 62 FR 44890.

The effective date of the Federal Register Notice that established the current ranges of comparability for compact-sized dishwashers was March 22, 2001. Because section 326(c) of EPCA states that the Commission cannot require that labels be changed more often than annually to reflect changes in the ranges of comparability,⁵ the effective date of today's revised ranges of comparability for compact-sized dishwashers therefore will be March 22, 2002.

⁵ 42 U.S.C. 6296(c).

The ranges of comparability for standard-sized dishwashers will remain in effect until further notice. This means that manufacturers of standard-sized dishwashers must continue to use the ranges of comparability that were published on August 25, 1997 (62 FR 44890), and must continue to base the disclosures of estimated annual operating cost required at the bottom of EnergyGuides for these products on the 1997 Representative Average Unit Costs of Energy for electricity (8.31 cents per kiloWatt-hour) and natural gas (61.2 cents per therm) that were published by DOE on November 18, 1996 (61 FR 58679), and by the Commission on February 5, 1997 (62 FR 5316).

In consideration of the foregoing, the Commission revises Appendix C1 of Part 305 by publishing the following ranges of comparability for use in required disclosures (including labeling) for compact-size dishwashers beginning March 22, 2002, and amends the cost calculation formulas in Appendices H and I to Part 305 that manufacturers of central air conditioners and heat pumps must include on fact sheets and in directories, effective December 27, 2001.

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

List of Subjects in 16 CFR Part 305

Advertising, Energy conservation, Household appliances, Labeling, Reporting and recordkeeping requirements.

Accordingly, 16 CFR Part 305 is amended as follows:

PART 305—[AMENDED]

1. The authority citation for Part 305 continues to read as follows:

Authority: 42 U.S.C. 6294.

2. Appendix C1 to Part 305 is revised to read as follows:

Appendix C1 to Part 305—Compact Dishwashers

Range Information

“Compact” includes countertop dishwasher models with a capacity of fewer than eight (8) place settings. Place settings shall be in accordance with appendix C to 10 CFR part 430, subpart B. Load patterns shall conform to the operating normal for the model being tested.

Capacity | Range of estimated annual energy consumption (kWh/yr.): Low | Range of estimated annual energy consumption (kWh/yr.): High
Compact | 214 | 307

Cost Information

When the above ranges of comparability are used on EnergyGuide labels for compact-sized dishwashers, the estimated annual operating cost disclosure appearing in the box at the bottom of the labels must be derived using the 2001 Representative Average Unit Costs for electricity (8.29¢ per kilo Watt-hour) and natural gas (83.7¢ per therm), and the text below the box must identify the costs as such.

3. In section 2 of Appendix H of Part 305, the text and formulas are amended by removing the figure “8.03¢” wherever it appears and by adding, in its place, the figure “8.29¢”. In addition, the text and formulas are amended by removing the figure “12.05¢” wherever it appears and by adding, in its place, the figure “12.45¢”.

4. In section 2 of Appendix I of Part 305, the text and formulas are amended by removing the figure “8.03¢” wherever it appears and by adding, in its place, the figure “8.29¢”. In addition, the text and formulas are amended by removing the figures “12.05¢” and “12.24¢” wherever they appear and by adding, in their place, the figure “12.45¢”.

By direction of the Commission.
Donald S. Clark,
Secretary.

[FR Doc. 01-24261 Filed 9-27-01; 8:45 am]

BILLING CODE 6750-01-M